DEPARTMENT OF HOMELAND SECURITY

Federal Emergency Management Agency

[Docket ID FEMA-2012-0003; Internal Agency Docket No. FEMA-B-1271]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Arkansas: Benton | City of Rogers (12-06-1612P) | The Honorable Greg Hines, Mayor, City of Rogers, 301 West Chestnut Street, Rogers, AR 72756 | City Hall, 301 West Chestnut Street, Rogers, AR 72756 | http://www.rampp-team.com/lomrs.htm | October 29, 2012 | 050013
Maryland: Washington | Unincorporated areas of Washington County (12-03-1044P) | The Honorable Terry L. Baker, President, Washington County Board of Commissioners, 100 West Washington Street, Room 226, Hagerstown, MD 21740 | Washington County Administration Building, 100 West Washington Street, Hagerstown, MD 21740 | http://www.rampp-team.com/lomrs.htm | November 13, 2012 | 240070
New Mexico: Bernalillo | City of Albuquerque (11-06-2877P) | The Honorable Richard J. Berry, Mayor, City of Albuquerque, P.O. Box 1293, Albuquerque, NM 87103 | 600 2nd Street Northwest, Suite 201, Albuquerque, NM 87102 | http://www.rampp-team.com/lomrs.htm | November 8, 2012 | 350002
Pennsylvania:
Blair | Township of Logan (11-03-1840P) | The Honorable Frank J. Meloy, Chairman, Township of Logan Board of Supervisors, 100 Chief Logan Circle, Altoona, PA 16602 | Logan Township Municipal Building, 10 Chief Logan Circle, Altoona, PA 16602 | http://www.rampp-team.com/lomrs.htm | November 5, 2012 | 421391
Lebanon | Township of Jackson (12-03-0843P) | The Honorable Dean O. Moyer, Chairman, Township of Jackson Board of Supervisors, 60 North Ramona Road, Myerstown, PA 17067 | Jackson Township Building, 60 North Ramona Road, Myerstown, PA 17067 | http://www.rampp-team.com/lomrs.htm | November 26, 2012 | 421805
Montgomery | Township of Marlborough (12-03-0885P) | The Honorable Joan Smith, Chair, Township of Marlborough Board of Supervisors, 6040 Upper Ridge Road, Green Lane, PA 18054 | Marlborough Municipal Building, 6040 Upper Ridge Road, Green Lane, PA 18054 | http://www.rampp-team.com/lomrs.htm | November 9, 2012 | 421913
Texas:
Bexar | City of San Antonio (12-06-0838P) | The Honorable Julian Castro, Mayor, City of San Antonio, 100 Military Plaza, San Antonio, TX 78205 | Municipal Plaza, 114 West Commerce Street, 7th Floor, San Antonio, TX 78205 | http://www.rampp-team.com/lomrs.htm | November 16, 2012 | 480045
Bexar | City of San Antonio, (12-06-1638P) | The Honorable Julian Castro, Mayor, City of San Antonio, 100 Military Plaza, San Antonio, TX 78205 | Municipal Plaza, 114 West Commerce Street, 7th Floor, San Antonio, TX 78205 | http://www.rampp-team.com/lomrs.htm | November 26, 2012 | 480045
Bexar | Unincorporated areas of Bexar County, (12-06-0794P) | The Honorable Nelson W. Wolff, Bexar County Judge, Paul Elizondo Tower, 101 West Nueva Street, 10th Floor, San Antonio, TX 78205 | Public Works Department, 233 North Pecos-La Trinidad, Suite 420, San Antonio, TX 78207 | http://www.rampp-team.com/lomrs.htm | November 9, 2012 | 480035
Bexar | Unincorporated areas of Bexar County, (12-06-2182P) | The Honorable Nelson W. Wolff, Bexar County Judge, Paul Elizondo Tower, 101 West Nueva Street, 10th Floor, San Antonio, TX 78205 | Public Works Department, 233 North Pecos-La Trinidad, Suite 420, San Antonio, TX 78207 | http://www.rampp-team.com/lomrs.htm | November 5, 2012 | 480035
Collin | City of Parker, (12-06-0168P) | The Honorable Z. Marshall, Mayor, City of Parker, 5700 East Parker Road, Parker, TX 75002 | 5700 East Parker Road, Parker, TX 75002 | http://www.rampp-team.com/lomrs.htm | November 9, 2012 | 480139
Collin | City of Plano, (12-06-0168P) | The Honorable Phil Dyer, Mayor, City of Plano, 1520 Avenue K, Plano, TX 75074 | 1520 Avenue K, Suite 250, Plano, TX 75074 | http://www.rampp-team.com/lomrs.htm | November 9, 2012 | 480140
Collin | Unincorporated areas of Collin County, (12-06-0889P) | The Honorable Keith Self, Collin County Judge, 2300 Bloomdale Road, Suite 4192, McKinney, TX 75071 | Collin County Engineering Department, 825 North McDonald Street, Suite 160, McKinney, TX 75069 | http://www.rampp-team.com/lomrs.htm | October 26, 2012 | 480130
Dallas | City of Irving, (12-06-0738P) | The Honorable Herbert A. Gears, Mayor, City of Irving, 825 West Irving Boulevard, Irving, TX 75060 | Public Works Department, 825 West Irving Boulevard, Irving, TX 75060 | http://www.rampp-team.com/lomrs.htm | November 16, 2012 | 480180
Kendall | Unincorporated areas of Kendall County, (11-06-4333P) | The Honorable Gaylan Schroeder, Kendall County Judge, 201 East San Antonio Street, Suite 120, Boerne, TX 78006 | Kendall County Courthouse, 201 East San Antonio Street, Boerne, TX 78006 | http://www.rampp-team.com/lomrs.htm | October 29, 2012 | 480417
Lubbock | City of Lubbock, (11-06-4090P) | The Honorable Glen Robertson, Mayor, City of Lubbock, 1625 13th Street, Lubbock, TX 79401 | City Hall, 1625 13th Street, Lubbock, TX 79401 | http://www.rampp-team.com/lomrs.htm | November 1, 2012 | 480452
Virginia: Loudoun | Town of Leesburg, (12-03-1300P) | The Honorable Kristen C. Umstattd, Mayor, Town of Leesburg, 25 West Market Street, Leesburg, VA 20176 | Town Hall, 25 West Market Street, Leesburg, VA 20176 | http://www.rampp-team.com/lomrs.htm | November 8, 2012 | 510091

(Catalog of Federal Domestic Assistance No. 97.022, “Flood Insurance.”)

Dated: September 14, 2012.
Sandra K. Knight,
Deputy Associate Administrator for Mitigation, Department of Homeland Security, Federal Emergency Management Agency.

[FR Doc. 2012-24024 Filed 9-28-12; 8:45 am]

BILLING CODE 9110-12-P